DEPARTMENT OF COMMERCE

International Trade Administration

U.S. Medical Mission to Brazil; Sao Paulo, Brazil, May 21-24, 2013

AGENCY: International Trade Administration, Department of Commerce.

ACTION: Notice.

Mission Description

The United States Department of Commerce (USDOC), International Trade Administration, U.S. and Foreign Commercial Service (CS) is organizing a Medical Trade Mission to Brazil from May 21-24, 2013 in conjunction with Hospitalar 2013—the region's major healthcare trade show—in Sao Paulo, Brazil's major healthcare industry hub. In addition to providing exposure to Brazilian buyers, the trade show also attracts a high number of visitors from Mexico, Central and South America, as well as attendees from Europe, Asia and Africa.

The Medical Trade Mission to Brazil is intended to include representatives from a variety of U.S. medical/healthcare industry manufacturers (equipment/devices, laboratory equipment, emergency equipment, diagnostic, physiotherapy and orthopedic, healthcare information technology, and other allied sectors), service providers, and trade associations. Participating in an official U.S. industry delegation, rather than traveling to Brazil on their own, will enhance the participants' ability to secure meetings in Brazil. Mission participants will have tabletop exhibits at the CS booth at Hospitalar and prearranged one-on-one appointments at the tables to introduce the participants to end-users and prospective partners whose needs and capabilities are best suited to each U.S. participant's strengths. The participants also will obtain first-hand information through briefings about the regulations, policies and procedures in the healthcare industry. Trade mission participants will have the opportunity to interact extensively with Embassy/Consulate Officials and Commercial Service (CS) Brazil healthcare specialist to discuss industry developments, opportunities, and sales strategies.

Commercial Setting

Brazil is the largest medical equipment market in South America. The total market for medical equipment in Brazil should continue to expand approximately 15% through 2012. Brazil is both a major medical equipment producer and importer. This industry consists of a number of related products and services, including:

• Medical equipment and devices;

• Dental equipment and products;

• Radiological and diagnostic imaging equipment; and

• Laboratory equipment.

Brazilian medical equipment revenues in 2011 reached an estimated US$6.056 billion, which represents an increase of 20% from the previous year. The United States accounts for approximately 30% of the import market, with U.S. sales mainly going through local agents, distributors and importers who sell to hospitals and clinics. The market for electro-medical equipment is around US$200 million, which represents approximately 50% of total sales in Latin America. In 2011, imports for in vitro diagnostics reagents and devices increased approximately 20%.

Medical Equipment
In US$ billion | 2010 | 2011 (estimated) | 2012 (estimated) | 2013 (estimated)
Total Market Size | 5.047 | 6.056 | 6.964 | 8.009
Total Local Production | 2.013 | 2.415 | 2.898 | 3.477
Total Exports | 0.633 | 0.759 | 0.910 | 1.092
Total Imports | 3.667 | 4.400 | 4.976 | 5.624
Imports from the U.S | 1.100 | 1.320 | 1.493 | 1.687
Exchange Rate: 1 US$ | 1.67 | 1.67 |  |

There are few high-quality Brazilian manufacturers of advanced medical products, so Brazil's reliance on imports should continue for some time. Local buyers view U.S. and other foreign products (mainly Canadian and European) as having comparable quality and reliability. Thus, financing terms often become the differentiating criteria in making a sale.

Best Prospects/Services

Brazil's strengthened currency has meant that private and public hospitals have greater purchasing power, and with continued expansion of Brazil's private healthcare sector, the market should grow. Approximately 80% of all products used in hospitals have no similar manufacturing in the country and must be imported. New opportunities for U.S. exporters abound, particularly for advanced medical equipment, disposables, diagnostic devices, implants and components.

Opportunities

The market for home healthcare products has been increasing in recent years. Brazilian health insurance companies are responsible for paying 99% of the costs related to home care treatment, and as such, the U.S. Commercial Service sees the market for home healthcare products growing dramatically during the coming years. Brazil's Regional Nursing Council is currently developing procedures on how to regulate this market, including standards for health professionals.

In addition to the attractive size of the Brazilian medical market, U.S. exporters should consider the opportunities offered by Mercosur, and use Brazil as a “spring board” for export into Argentina, Uruguay and Paraguay. Since compulsory product registration before sale is required for all of MERCOSUR countries, U.S. exporters should consult a local lawyer/consultant before signing a contract with any agent/distributor.

The growth in this industry makes it very attractive for U.S. companies, both large companies already doing business in the market but also and especially small- and medium-sized enterprises (SMEs), and new-to-market (NTM) companies.

Mission Goals

The goal of the Medical Trade Mission to Brazil is to (1) Familiarize the participants with the current healthcare market as well as the developments taking place in Brazil, (2) introduce participants to strategic partners to learn about various regulatory procedures as well as policies in the healthcare sector, and (3) and introduce participants to Brazilian companies for potential partnerships.

Mission Scenario

U.S. participants will be counseled before and after the mission by U.S. Export Assistance Center trade specialists, primarily by members of the Global Healthcare Team. Participation in the mission will include the following:

• Pre-travel briefings/Webinar on subjects ranging from business practices in Brazil to security;

• Consulate briefings on the business climate, political scenario, medical/healthcare industry scenario;

• Pre-scheduled meetings with potential partners, distributors, end users, or local industry contacts;

• Showcase your company using a tabletop display at Hospitalar 2013—includes table with two chairs, unlimited Internet access;

• Complimentary promotion and listing on the official Hospitalar 2013 portal;

• Listed in Hospitalar 2013 hard copy exhibitor catalog;

• Advanced promotion to top local contacts of the U.S. Commercial Service network in Brazil, Mexico, and throughout Central and South America.

Proposed Timetable

Mission participants will be encouraged to arrive Monday, May 20, 2013 to allow time to adjust to their new surroundings before the mission program begins on Tuesday, May 21.

Tuesday, May 21 | Sao Paulo. 11 a.m.-11: 45 a.m.: Consulate & Industry briefing by U.S. Department of Commerce at U.S. Commercial Service Pavilion. Noon to 9 p.m. trade show hours. One-on-one appointments begin.
Wednesday, May 22 | Sao Paulo. Noon to 9 p.m. trade show hours. One-on-one appointments continue. No-host Group Dinner.
Thursday, May 23 | Sao Paulo. Noon to 9 p.m. trade show hours. One-on-one appointments continue.
Friday, May 24 | Sao Paulo. Noon to 9 p.m. trade show hours, One-on-one appointments end.

Participation Requirements

All parties interested in participating in the Brazil Medical Trade Mission must complete and submit an application for consideration by the Department of Commerce. All applicants will be evaluated on their ability to meet certain conditions and satisfy the selection criteria as outlined below. A minimum of 8 and a maximum of 12 companies will be selected to participate in the mission. U.S. companies already doing business in Brazil as well as U.S. companies seeking to enter the Brazilian market for the first time may apply.

Fees and Expenses

After a company or organization has been selected to participate on the mission, a payment to the Department of Commerce in the form of a participation fee is required. The participation fee per company will be $3,850 for small and medium-sized enterprises (SME) ¹ and $5475 for large companies. This includes entry passes to the trade show, and no additional fees/registration will need to be processed to exhibit at Hospitalar 2013. Expenses for local translator, local transportation, lodging, meals, incidentals, and travel will be the responsibility of each mission participant.

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, (or in the case of a trade association or trade organization, information on the products and/or services of the companies to be represented on the trade mission), primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least fifty-one percent U.S. content. In the case of a trade association or trade organization, the applicant must certify that, for each company to be represented by the trade association or trade organization, the products and services the represented company seeks to export are either produced in the United States, or, if not, marketed under the name of a U.S. firm and have at least fifty-one percent U.S. content.

Selection Criteria for Participation

Selection will be based on the following criteria:

• Suitability of a company's (or, in the case of a trade association or trade organization, represented companies') products or services to the mission's goals.

• Company's (or, in the case of a trade association or trade organization, represented companies') potential for business in Brazil, including likelihood of exports resulting from the trade mission.

• Consistency of the applicant's goals and objectives with the stated scope of the trade mission.

Referrals from political organizations and any documents containing references to partisan political activities (including political contributions) will be removed from an applicant's submission and not considered during the selection process.

Timeframe for Recruitment and Applications

Mission recruitment will be conducted in an open and public manner, including publication in the Federal Register (http://www.gpoaccess.gov/fr), posting on ITA's trade mission calendar— http://export.gov/trademissions—and other Internet web sites, press releases to general and trade media, direct mail, broadcast fax, notices by industry trade associations and other multiplier groups, and publicity at industry meetings, symposia, conferences, and trade shows.

Recruitment for the mission will begin immediately and conclude no later than March 8, 2013. The U.S. Department of Commerce will review applications and make selection decisions on a rolling basis until the maximum of twelve (12) participants is reached. We will inform all applicants of selection decisions as soon as possible after the applications are reviewed. Applications received after the March 8 deadline will be considered only if space and scheduling constraints permit.

How To Apply

Applications can be completed on-line at the Trade Mission Web site or can be obtained by contacting Pompeya Lambrecht at the U.S. Department of Commerce (see contact details below.) Completed applications should be submitted to Pompeya Lambrecht.

Contacts

U.S. Commercial Service Healthcare Team: Ms. Pompeya Lambrecht, International Trade Specialist, U.S. Commercial Service, U.S. Department of Commerce, 2800 S. Randolph Street, Suite 800, Arlington, VA 22206, Phone: 703.756.1707, Pompeya.Lambrecht@trade.gov.

U.S. Commercial Service in Brazil: Mr. Jefferson Oliveira, U.S. Commercial Service Sao Paulo, Phone: 011.55.11.5186.7136, Jefferson.Oliveira@trade.gov.

Elnora Moye,
Trade Program Assistant.

[FR Doc. 2012-21051 Filed 8-24-12; 8:45 am]

BILLING CODE 3510-FP-P